DEPARTMENT OF COMMERCE

International Trade Administration

[A-570-888]

Floor-Standing, Metal-Top Ironing Tables and Certain Parts Thereof From the People's Republic of China: Final Results of Antidumping Duty Administrative Review

AGENCY: Import Administration, International Trade Administration, Department of Commerce.

SUMMARY: On September 14, 2010, the U.S. Department of Commerce (the Department) published the preliminary results of the 2007-2008 administrative review of the antidumping duty order covering Since Hardware (Gunagzhou) Co., Ltd (Since Hardware) on floor-standing, metal-top ironing tables from the People's Republic of China (PRC). See Floor-Standing, Metal-Top Ironing Tables and Certain Parts Thereof From the People's Republic of China: Preliminary Results of Antidumping Duty Administrative Review, 75 FR 55759 (September 14, 2010) (AR4 Preliminary Results). This review covers one exporter. The period of review (POR) is August 1, 2007, through July 31, 2008. We invited interested parties to comment on the Preliminary Results.

Based on our analysis of the comments received, we have made changes in the margin calculations. Therefore, the Final Results differ from the Preliminary Results. The weighted average dumping margins are listed below in the section entitled “Final Results of Review”.

DATES: Effective Date: March 21, 2011.

FOR FURTHER INFORMATION CONTACT: Michael J. Heaney or Robert James, AD/CVD Operations, Office 7, Import Administration, International Trade Administration, U.S. Department of Commerce, 14th Street and Constitution Avenue, NW., Washington, DC 20230; telephone: (202) 482-4475 or (202) 482-0649, respectively.

SUPPLEMENTARY INFORMATION:

Background

On September 14, 2010, the Department published the preliminary results of this administrative review. See AR4 Preliminary Results. The merchandise covered by the order is floor-standing, metal-top ironing tables and certain parts thereof from the PRC, as described in the “Scope of the Order” section of this notice. The period of review (POR) is August 1, 2007, through July 31, 2008. This administrative review covers Since Hardware.

In the Preliminary Results, we invited parties to comment. Additionally, on October 22, 2010 we issued to Interested Parties a Memorandum detailing the Industry Specific Wage Rates that the Department has used in these Final Results. See October 22, 2010, Memorandum from Michael J. Heaney to the File: “08/01/2007-07/31/2008 Review of the Antidumping Duty Order on Floor Standing Metal Top Ironing Tables from the People's Republic of China: Industry Specific Wage Rate Selection.” We invited interested parties to comment on the Department's calculation of industry specific wage rates that are outlined in our October 22, 2010, Industry Specific Wage Rate Memorandum. On November 3, 2010, we extended the due date for filing case briefs until November 15, 2010. In response, on November 15, 2010, the Department received a case brief from Home Products International (the Petitioner in this case).¹ Petitioner, and Since Hardware submitted rebuttal briefs on November 22, 2010. On December 27, 2010, the Department extended the time frame for the final results of review by an additional 60 days. See Floor-Standing Metal-Top Ironing Tables and Certain Parts Thereof from the People's Republic of China: Extension of Time Limit for the Final Results of Administrative Review, 75 FR 81212 (December 27, 2010).

¹ On November 16, 2010, Since Hardware attempted to submit a case brief. On November 22, 2010, the Department issued a letter to Since Hardware which rejected Since Hardware's November 16, 2010, case brief as untimely filed. See November 22, 2010, letter from Robert M. James to Since Hardware. Accordingly, the Department has not considered Since Hardware's November 16, 2010, submission in these Final Results.

Scope of the Order

For purposes of the order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, the order specifically covers imports of ironing tables, assembled or unassembled, complete or incomplete, and certain parts thereof. For purposes of the order, the term “unassembled” ironing table means a product requiring the attachment of the leg assembly to the top or the attachment of an included feature such as an iron rest or linen rack. The term “complete” ironing table means product sold as a ready-to-use ensemble consisting of the metal-top table and a pad and cover, with or without additional features, e.g., iron rest or linen rack. The term “incomplete” ironing table means product shipped or sold as a “bare board”—i.e., a metal-top table only, without the pad and cover—with or without additional features, e.g. iron rest or linen rack. The major parts or components of ironing tables that are intended to be covered by the order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for Customs and Border Protection (CBP) purposes, the Department's written description of the scope remains dispositive.

Separate Rates

Since Hardware requested a separate, company-specific antidumping duty rate. In the AR4 Preliminary Results, we found that Since Hardware had met the criteria for the application of a separate antidumping duty rate. See Preliminary Results, 75 FR at 55761.

We verified the separate rate information submitted by Since Hardware. See August 23, 2010 Verification of the Sales and Factors Response of Since Hardware (Guangzhou) Co., Ltd. in the Antidumping Review of Floor Standing Metal Top Ironing Tables (Ironing Tables) and Certain Parts Thereof from the People's Republic of China (PRC) (Since Hardware Verification Report) at 6.

Moreover, we have not received any information since the Preliminary Results with respect to Since Hardware that would warrant reconsideration of our separate-rates determination. Therefore, we have assigned an individual dumping margin to Since Hardware for this review period.

Analysis of Comments Received

All issues raised in the case briefs by the parties and to which we have responded are addressed in the Memorandum to Ronald K. Lorentzen, Deputy Assistant Secretary for Import Administration, from Christian Marsh, Deputy Assistant Secretary for Antidumping and Countervailing Duty Operations, entitled “Issues and Decision Memorandum for the Final Results in the Administrative Review of Floor-Standing, Metal-Top Ironing Tables and Certain Parts Thereof from the People's Republic of China”, (March 14, 2011) (Issues and Decision Memorandum), which is hereby adopted by this notice. A list of the issues raised, all of which are in the Issues and Decision Memorandum, is attached to this notice as Appendix I. Parties can find a complete discussion of all issues raised in the briefs and the corresponding recommendations in this public memorandum, which is on file in the Central Records Unit (CRU), room 7046 of the Department of Commerce. In addition, a complete version of the Issues and Decision Memorandum can be accessed directly on the Web at http://trade.gov/ia. The paper copy and electronic version of the Issues and Decision Memorandum are identical in content.

Changes Since the Preliminary Results

Based on the comments received from interested parties, we have made the following changes from that presented in our Preliminary Results:

We have based our calculations of labor inputs on industry specific wage rates.

We have applied brokerage and handling charges according to the weight of the merchandise and the container size of the shipment.

We have corrected an error in our calculation of the surrogate value of water.

Final Results of Review

We determine that the following antidumping duty margins exist in these final results:

Exporter | Margin (percent)
Since Hardware | 67.37

For details on the calculation of the antidumping duty weighted-average margin for Since Hardware, see Memorandum to the File from Michael J. Heaney, Senior International Trade Compliance Analyst; “Floor-Standing, Metal-Top Ironing Tables and Certain Parts Thereof from the People's Republic of China: dated March 14, 2011. The public version of this memorandum is on file in the CRU.

Assessment Rates

Pursuant to section 751(a)(2)(A) of the Tariff Act of 1930, as amended (the Act) and 19 CFR 351.212(b), the Department will determine, and CBP shall assess, antidumping duties on all appropriate entries. The Department intends to issue assessment instructions to CBP 15 days after the date of publication of these final results of review. For assessment purposes, where possible, we calculated importer-specific assessment rates for subject ironing tables from the PRC via ad valorem duty assessment rates based on the ratio of the total amount of the dumping margins calculated for the examined sales to the total entered value of those same sales. We will instruct CBP to assess antidumping duties on all appropriate entries covered by this review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return or destruction or conversion to judicial protective order of proprietary information disclosed under APO in accordance with 19 CFR 351.305(a)(3). Timely written notification of the return or destruction of APO materials or conversion to judicial protective order is hereby requested. Failure to comply with the regulations and the terms of an APO is a sanctionable violation.

This administrative review and this notice are published in accordance with sections 751(a)(1) and 777(i)(1) of the Act.

Dated: March 14, 2011.
Kim Glas,
Acting Deputy Assistant Secretary for Import Administration.

Appendix I

Issues in Decision Memorandum

Comment 1: Appropriate Wage Rate Calculation

Comment 2: Brokerage and Handling

Comment 3: Whether Certain Expenses are Appropriately Classified as Packaging or Material Costs

Comment 4: Surrogate Value of Cotton

Comment 5: Surrogate Value of Water

Comment 6: Whether Discrepancies in Since Hardware's Calculation of Yield Losses Necessitate Use of Adverse Facts Available

Comment 7: Whether Since Hardware Purchases of Cartons Should Be Treated as Market Economy Transactions

[FR Doc. 2011-6560 Filed 3-18-11; 8:45 am]

BILLING CODE 3510-DS-P